SOCIAL SECURITY ADMINISTRATION

Agency Information Collection Activities: Emergency Request, Proposed Request, Comment Request and Notice of OMB Approval

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB),

Office of Management and Budget,

Attn: Desk Officer for SSA,

New Executive Building, Room 10235,

725 17th St., NW.,

Washington, DC 20503,

Fax: 202-395-6974.

(SSA),

Social Security Administration, DCFAM,

Attn: Reports Clearance Officer,

1338 Annex Building,

6401 Security Blvd.,

Baltimore, MD 21235,

Fax: 410-965-6400.

I. SSA is requesting emergency consideration within 2 weeks of publication of the information collection listed below.

Youth Transition Process Demonstration Evaluation Data Collection—0960-NEW. To further the President's New Freedom Initiative goal of increasing employment of individuals with disabilities, SSA has awarded seven cooperative agreements for the purpose of developing service delivery systems to assist youth with disabilities to successfully transition from school to work. SSA is funding two coordinated contracts to provide (1) technical assistance and (2) an evaluation. SSA will work with the Evaluation Contractor to use the results to conduct a net outcome evaluation to determine the long-term effectiveness of the interventions, impacts and benefits of the demonstration. Evaluation data will be used by the projects to improve the efficiency of the project's operations; use of staff; linkages between the project and the agencies through which comprehensive services are arranged; and specific aspects of service delivery to better meet the needs of the targeted population. This type of project is authorized by sections 1110 and 234 of the Social Security Act. The respondents will be youth with disabilities who have enrolled in the project.

Type of Request: New Collection.

Number of Respondents: 5,000.

Frequency of Response: 4.

Average Burden Per Response: 15 minutes.

Estimated Annual Burden: 5,000 hours.

II. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Supplemental Statement Regarding Farming Activities of Persons Living Outside the U.S.A.—0960-0103. Form SSA-7163A-F4 is used by SSA to collect needed information whenever a Social Security beneficiary or claimant reports work on a farm outside the U.S. The information is used to make a determination for work deduction purposes. The respondents are Social Security beneficiaries or claimants who are engaged in farming activities outside the U.S.

Type of Request: Extension of an OMB-approved information collection.

Number of Respondents: 1,000.

Frequency of Response: 1.

Average Burden Per Response: 60 minutes.

Estimated Annual Burden: 1,000 hours.

2. Notice Regarding Substitution of Party Upon Death of Claimant-Reconsideration of Disability Cessation—20 CFR 404.907-.921 and 416.1407-.1421—0960-0351. SSA uses form SSA-770 to obtain information from substitute parties regarding their intention to pursue the appeals process for an individual who has died. The respondents are such parties.

Type of Request: Extension of an OMB-approved information collection.

Number of Respondents: 1,200.

Frequency of Response: 1.

Average Burden Per Response: 5 minutes.

Estimated Annual Burden: 100 hours.

3. Disability Hearing Officer's Decision—20 CFR 404.917 and 416.1417—0960-0441. The Social Security Act requires that SSA provide an evidentiary hearing at the reconsideration level of appeal for claimants who have received an initial or revised determination that a disability did not exist or has ceased. Based on the hearing, the disability hearing officer (DHO) completes form SSA-1207 and all applicable supplementary forms (which vary depending on the type of claim). The DHO uses the information in documenting and preparing the disability decision. The form will aid the DHO in addressing the crucial elements of the case in a sequential and logical fashion. The respondents are DHOs in the State Disability Determination Services (DDS).

Type of Request: Extension of an OMB-approved information collection.

Number of Respondents: 100,000.

Frequency of Response: 1.

Average Burden Per Response: 45 minutes.

Estimated Annual Burden: 75,000 hours.

4. Work History Report—20 CFR 404.1512 and 416.912—0960-0578. The information collected by form SSA-3369 is needed to determine disability by the State DDS. The information will be used to document an individual's past work history. The respondents are applicants for disability benefits.

Type of Request: Extension of an OMB-approved information collection.

Number of Respondents: 1,000,000.

Frequency of Response: 1.

Average Burden Per Response: 30 minutes.

Estimated Annual Burden: 500,000 hours.

5. Medical History and Disability Report, Disabled Child—20 CFR 416.912—0960-0577. The Social Security Act requires claimants to furnish medical and other evidence to prove they are disabled. Form SSA-3820 is used to obtain various types of information about a child's condition, his/her treating sources and/or other medical sources of evidence. The i3820 allows the claimant for disability benefits to go online and furnish the same information. The Electronic Disability Collect System (EDCS) is an internal collection process. Using EDCS, Field Office (FO) employees key information provided by applicants or their representatives onto EDCS screens, which establish a data base that the adjudicating component can access. Both the i3820 and EDCS screens have been designed to capture the same information as the revised paper version of the SSA-3820. The information collected on the SSA-3820 is needed for the determination of disability by the State DDSs. The respondents are applicants for Title XVI (SSI) child disability benefits.

Type of Request: Extension of an OMB-approved information collection.

| Number of respondents | Frequency of response | Average burden per response (hours) | Estimated annual burden (hours)
SSA-3820 | 366,000 | 1 | 1 | 366,000
i3820 | 2,500 | 1 | 2 | 5,000
EDCS | 157,000 | 1 | 1 | 157,000

Total Estimated Annual Burden: 528,000 hours.

6. Annual Registration Statement Identifying Separated Participants with Deferred Benefits, Schedule SSA—0960-0606. Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans, or their service providers employed to prepare the Schedule SSA on behalf of the pension benefit plan. Below are the estimates of the cost and hour burdens for completing and filing Schedule SSA(s). We have used an average to estimate the hour burden. However, the burden may be greater or smaller depending on whether the respondent is a large or small pension benefit plan and how many Schedule SSA's are filed in a given year.

Type of Request: Extension of an OMB-approved information collection.

Number of Respondents: 1.

Average Burden Per Response: 2.5 hours.

Estimated Annual Burden: 220,000 hours.

Estimated Annual Cost Burden for All Respondents: $12,194,400.

7. State Agency Report of Obligations for SSA Disability Programs and Addendum, SSA-4513; Time Report of Personnel Services for Disability Determination Services, SSA-4514; and State Agency Schedule of Equipment Purchased for SSA Disability Programs, SSA-871—0960-0421. SSA uses the information collected by forms SSA-4513 and 4514 to conduct a detailed analysis and evaluation of the costs incurred by the State Disability Determination Services (DDSs) in making the disability determination for SSA. The data is also used to determine funding levels for each DDS. SSA uses the information collected by form SSA-871 to budget and account for expenditures of funds for equipment purchases by the State DDSs that administer the disability determination program. The respondents are DDSs that have the responsibility for making disability determinations for SSA.

Type of Request: Extension of an OMB-approved information collection.

| Number of respondents | Frequency of response | Average burden per response (minutes) | Estimated annual burden (hours)
SSA-4513 | 52 | 4 | 90 | 312
SSA-4514 | 52 | 4 | 90 | 312
SSA-871 | 52 | 4 | 30 | 104

Total Estimated Annual Burden: 728 hours.

8. Summary of Evidence—20 CFR 416.1407—0960-0430. Form SSA-887 is used by the State Disability Determination Services (DDS) to provide claimants with a list of medical/vocational reports pertaining to their disability. The form will aid claimants in reviewing the evidence in their folders and will also be used by hearing officers in preparing for and conducting hearings. The respondents are State DDSs that make disability determinations.

Type of Request: Extension of an OMB-approved information collection.

Number of Respondents: 49,000.

Frequency of Response: 1.

Average Burden Per Response: 15 minutes.

Estimated Annual Burden: 12,250 hours.

9. Wage Reports and Pension Information—20 CFR 422.122(b)—0960-0547. The information collected by form OR-418P is used by SSA to identify the requester of pension plan information and to confirm that the individual is entitled to the data SSA provides. The respondents are requesters of pension plan information.

Type of Request: Extension of an OMB-approved information collection.

Number of Respondents: 600.

Frequency of Response: 1.

Average Burden Per Response: 30 minutes.

Estimated Annual Burden: 300 hours.

III. The information collections listed below have been submitted to OMB for clearance. Your comments on the information collections would be most useful if received by OMB and SSA within 30 days from the date of this publication. You can obtain a copy of the OMB clearance packages by calling the SSA Reports Clearance Officer at 410-965-0454, or by writing to the address listed above.

1. Pain Report-Child—20 CFR 416.912 and 416.1512—0960-0540. The information collected by form SSA-3371-BK will be used to obtain the types of information specified in the regulations, and to provide disability interviewers (and applicants/claimants in self-help situations) with a convenient means of recording the information obtained. This information is used by the State disability determination services (DDS) adjudicators and administrative law judges to assess the effects of symptoms on functionality for determining disability under the Social Security Act. The respondents are applicants for Supplemental Security Income (SSI) benefits.

Type of Request: Extension of an OMB-approved information collection.

Number of Respondents: 250,000.

Frequency of Response: 1.

Average Burden Per Response: 15 minutes.

Estimated Annual Burden: 62,500 hours.

2. Medical Permit Parking Application—0960-0624. SSA issues medical parking assignments at SSA-owned and -leased facilities to individuals who have a medical condition which meets the criteria for medical parking. In order to issue a medical parking permit, SSA must obtain medical evidence from the applicant's physician. Form SSA-3192-F4 is used to collect this information. SSA then uses the information to determine whether the individual qualifies for a medical parking permit and whether or not to issue the permit. The respondents are physicians of applicants for medical parking permits.

Type of Request: Extension of an OMB-approved information collection.

Number of Respondents: 144.

Frequency of Response: 1.

Average Burden Per Response: 60 minutes.

Estimated Annual Burden: 144 hours.

IV. Notice of OMB Approval

As required by the Paperwork Reduction Act of 1995 (44 U.S.C. 3507), the Social Security Administration (SSA) is providing notice of OMB's approval of the information collections contained in 20 CFR 404.610, 404.611, and 422.505, Filing of Applications and Related Forms. In compliance with the Paperwork Reduction Act, persons are not required to respond to an information collection unless it displays a valid Office of Management and Budget control number. The OMB number is 0960-0685, which expires February 28, 2007.

Dated: March 1, 2004.
Elizabeth A. Davidson,
Reports Clearance Officer, Social Security Administration.

[FR Doc. 04-4889 Filed 3-4-04; 8:45 am]

BILLING CODE 4191-02-P